FEDERAL MARITIME COMMISSION

Ocean Transportation Intermediary License; Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
4337F | Air-Land & Sea Transport, Inc., 3000 Wilcrest, Suite #350, Houston, TX 77042 | March 30, 2000.
12237N | Costa Rica Carriers, Inc., 8620 NW 70th Street, Miami, FL 33166 | October 6, 2000.
15703N | MSD Line, Inc., 2400 S. Wilmington Avenue, Compton, CA 90220 | November 24, 2000.
4105F | Overseas Mahanm Inc., 24 Lillian Lane, Plainview, NY 11803-5613 | March 18, 1999.

Sandra L. Kusumoto,
Director, Bureau of Consumer Complaints and Licensing.

[FR Doc. 01-3219 Filed 2-7-01; 8:45 am]

BILLING CODE 6730-01-P